SURFACE TRANSPORTATION BOARD

[Docket No. FD 36812]

Chicago Rock Island & Pacific Railroad LLC—Continuance in Control Exemption—Oklahoma & Kansas Railroad, LLC

Chicago Rock Island & Pacific Railroad LLC (Rock Island), a Class III rail carrier, has filed a verified notice of exemption under 49 CFR 1180.2(d)(2) to continue in control of Oklahoma & Kansas Railroad, LLC (OKRL), upon OKRL's becoming a Class III rail carrier. Rock Island currently controls the Gulf & Ship Island Railroad LLC (G&SI) and Ottawa Northern Railroad LLC (ONR), both Class III rail carriers. Rock Island operates in Mississippi; G&SI operates in Mississippi; ONR operates in Kansas; and OKRL intends to operate in Oklahoma and Kansas.

This transaction is related to a concurrently filed verified notice of exemption in Oklahoma & Kansas Railroad—Change of Operator Exemption—Oklahoma Department of Transportation, Docket No. FD 36811, in which OKRL seeks Board approval to lease and operate approximately 37.26 miles of rail line owned by the Oklahoma Department of Transportation and Blackwell Industrial Authority extending from milepost 0.09 at Wellington, Kan., to milepost 35.35 at Blackwell, Okla., and from milepost 127.0 at Blackwell to milepost 125.0 also at Blackwell.

Rock Island represents that: (1) none of Rock Island's railroad lines, G&SI's lines, or ONR's lines will connect with OKRL's; (2) the transaction is not part of a series of anticipated transactions that would result in such interconnection; and (3) the transaction does not involve a Class I rail carrier. Therefore, the transaction is exempt from the prior approval requirements of 49 U.S.C. 11323. See 49 CFR 1180.2(d)(2).

Under 49 U.S.C. 10502(g), the Board may not use its exemption authority to relieve a rail carrier of its statutory obligation to protect the interests of its employees. However, 49 U.S.C. 11326(c) does not provide for labor protection for transactions under 49 U.S.C. 11324 and 11325 that involve only Class III rail carriers. Accordingly, because this transaction involves Class III rail carriers only, the Board may not impose labor protective conditions here.

The earliest this transaction may be consummated is October 13, 2024, the effective date of the exemption (30 days after the verified notice was filed). If the verified notice contains false or misleading information, the exemption is void ab initio. Petitions to revoke the exemption under 49 U.S.C. 10502(g) may be filed at any time. The filing of a petition to revoke will not automatically stay the effectiveness of the exemption. Petitions for stay must be filed by October 4, 2024 (at least seven days before the exemption becomes effective).

All pleadings, referring to Docket No. FD 36812, must be filed with the Surface Transportation Board either via e-filing on the Board's website or in writing addressed to 395 E Street SW, Washington, DC 20423-0001. In addition, a copy of each pleading must be served on Rock Island's representative, Robert A. Wimbish, Fletcher & Sippel LLC, 29 North Wacker Drive, Suite 800, Chicago, IL 60606.

Board decisions and notices are available at www.stb.gov.

Decided: September 24, 2024.
By the Board, Scott M. Zimmerman, Acting Director, Office of Proceedings.
Aretha Laws-Byrum,
Clearance Clerk.

[FR Doc. 2024-22219 Filed 9-26-24; 8:45 am]

BILLING CODE 4915-01-P